DEPARTMENT OF DEFENSE

Department of the Air Force

[Docket ID: USAF-2013-0028]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on July 26, 2013 unless comments are received which result in a contrary determination. Comments will be accepted on or before July 25, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/airforce/index.html.

The proposed systems reports, as required by 5 U.S.C. 552a(r) of the Privacy Act, as amended, were submitted on May 13, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: June 20, 2013.
Aaron Siegel,
Alternate OSD Federal Register Liaison Officer, Department of Defense.

F036 AF PC P

System name:

Applications for Appointment and Extended Active Duty Files (June 11, 1997, 62 FR 31793).

* * * * *

Changes:

System ID:

Delete entry and replace with “F036 AFPC H”.

* * * * *

System location:

Delete entry and replace with “Headquarters Air Force Personnel Center (AFPC), Line Officer Accessions Branch, 550 C Street West, Randolph Air Force Base, TX 78150-4703;

Headquarters Air Reserve Personnel Center, 18420 E. Silver Creek, Bldg #390 MS 68, Buckley Air Force Base, CO 80011-9502;

Headquarters Air National Guard Bureau, 3500 Fetchet Avenue, Andrews AFB, MD 20762-5157;

Headquarters Air Force Recruiting Service, 550 D Street West, Randolph Air Force Base, TX 78150-4527;

Air Force Recruiting Offices. Official mailing addresses are published as an appendix to the Air Force's compilation of record system notices.”

Categories of individuals covered by the system:

Delete entry and replace with “Applicants for appointment/reappointment as Air Force Reserve; Air National Guard; Air Reserve Component officers who apply for voluntary entry on Extended Active Duty; commissioned officers of other uniformed services who apply for interservice transfer to the Air Force.”

Categories of records in the system:

Delete entry and replace with “Individual's application and supporting documents as applicable containing name, Social Security Number (SSN), Department of Defense Identification Number (DoD ID Number), date of birth, historical background, education data, medical history, physical status, prior service data, employment data, marital and dependency status, and aptitude test results.”

Authority for maintenance of the system:

Delete entry and replace with “10 U.S.C. 8013, Secretary of the Air Force; 10 U.S.C. 716, Commissioned officers: Transfers among the armed forces, the National Oceanic and Atmospheric Administration, and the Public Health Service; 10 U.S.C. Chapter 1205, Appointment of Reserve Officers; 10 U.S.C. 12301, Reserve Components Generally; 10 U.S.C. 12320, Reserve Officers: Grade in which ordered to active duty; Department of Defense Instruction 1310.02, Appointing Commissioned Officers; Air Force Policy Directive 36-20, Accession of Air Force Military Personnel; Air Force Instruction (AFI) 36-2005, Appointment in Commissioned Grades and Designation and Assignment in Professional Categories—Reserve of the Air Force and United States Air Force; Air Force Instruction (AFI) 36-2004, Interservice Transfer of Officers to the United States Air Force (USAF) and the United States Air Force Reserve (USAFR); Air Force Instruction (AFI) 36-2008, Voluntary Extended Active Duty (EAD) for Air Force Reserve Commissioned Officers; and E.O. 9397 (SSN), as amended.”

Purpose(s):

Delete entry and replace with “To determine eligibility for appointment to the Air Reserve Component, for interservice transfer, or for Extended Active Duty.”

* * * * *

Storage:

Delete entry and replace with “Paper records and electronic storage media.”

Retrievability:

Delete entry and replace with “Name, SSN and/or DoD ID number.”

Safeguards:

Delete entry and replace with “Access to records is limited to person(s) responsible for servicing the record in the performance of their official duties and who are properly screened and cleared for need-to-know. System software uses Primary Key Infrastructure (PKI)/Common Access Card (CAC) authentication to lock out unauthorized access. Paper records are secured in locked cabinets or drawers in areas with controlled access entry requirements.”

Retention and disposal:

Delete entry and replace with “Commissioning Case Files are destroyed 12 months after end of the month of entry into Extended Active Duty (EAD); commissioning case file applications awaiting resubmission are destroyed 12 months after the end of the month in which final action is completed, interservice transfer case files are destroyed 5 years after the transfer of the officer; and recall cases (officers) are destroyed after 5 years. Paper records are destroyed by tearing into pieces, shredding, pulping, macerating, or burning. Electronic records are destroyed by erasing, deleting, or overwriting.”

System manager(s) and address:

Delete entry and replace with “Directorate of Personnel Services, Line Officer Accessions Branch Program Manager, Air Force Personnel Center, 550 C Street West, Suite 10, Randolph Air Force Base, TX 78150-4703.

Commander, Headquarters Air Reserve Personnel Center, 18420 E. Silver Creek Ave, Buckley Air Force Base, CO 80011-9502.

Commander, Headquarters Air Force Reserve Command, 255 Richard Ray Blvd., Robins Air Force Base, GA 31098-6001.

Commander, Headquarters Recruiting Service, 550 D Street West, Randolph Air Force Base, TX 78150-4527.”

Notification procedure:

Delete entry and replace with “Individuals seeking to determine whether this system of records contains information about themselves should address written inquiries to the system manager or respective recruiting office location. Official mailing addresses are published as an appendix to the Air Force's compilation of systems of records notices.

For verification purposes, individual should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking access to information about themselves contained in this system of records should address written inquiries to the system manager or respective recruiting office location. Official mailing addresses are published as an appendix to the Air Force's compilation of systems of records notices.

For verification purposes, individual should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Contesting record procedures:

Delete entry and replace with “The Air Force rules for accessing records, contesting contents and appealing initial agency determinations are published in Air Force Instruction 33-332, Air Force Privacy Program; 32 CFR part 806b; or may be obtained from the system manager.”

Record source categories:

Delete entry and replace with “Data is extracted from the Headquarters Air Force Master Personnel File; special orders; official correspondence submitted by the individual; individual appointment applications; letters of recommendation, and results of National Agency Check.”

Exemptions claimed for the system:

Delete entry and replace with “Investigatory material compiled solely for purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1),(2), and (3), (c) and (e) published in 32 CFR part 806b. For additional information, contact the system manager.”

[FR Doc. 2013-15125 Filed 6-24-13; 8:45 am]

BILLING CODE 5001-06-P